DEPARTMENT OF HEALTH AND HUMAN SERVICES

National Institutes of Health

National Library of Medicine Amended; Notice of Meeting

Notice is hereby given of a change in the meeting of the National Library of Medicine Biomedical Library and Informatics Review Committee, June 15, 2017, 9:00 a.m. to 6:00 p.m., and June 16, 2017, 9:00 a.m. to 2:00 p.m., National Library of Medicine, Building 38, Lindberg Room, 2nd Floor, 8600 Rockville Pike, Bethesda, MD, 20892 which was published in the Federal Register on February 27, 2017, 82 FR 37, Page 11934.

The second day of the Biomedical Library and Informatics Review Committee meeting, June 16, 2017, will now be held from 8:00 a.m. to 6:00 p.m. instead of 8:00 a.m. to 2:00 p.m. The meeting is closed to the public.

Dated: May 4, 2017.
Michelle Trout,
Program Analyst, Office of Federal Advisory Committee Policy.

[FR Doc. 2017-09414 Filed 5-9-17; 8:45 am]

BILLING CODE 4140-01-P